DEPARTMENT OF TRANSPORTATION

Surface Transportation Board

[Docket No. FD 35506]

Western Coal Traffic League—Petition for Declaratory Order

AGENCY: Surface Transportation Board.

ACTION: Notice of declaratory order proceeding; request for comments.

SUMMARY: The Board is initiating a declaratory order proceeding to address the effect of the price that Berkshire Hathaway, Inc., paid to acquire BNSF Railway Company (BNSF) in 2010 on the Board's annual BNSF Uniform Railroad Costing System (URCS) and revenue adequacy determinations.

DATES: Notices of Intent to Participate Due October 13, 2011; Opening Evidence and Argument Due from All Parties of Record (PORs) October 28, 2011; Reply Evidence and Argument Due from All PORs November 28, 2011; Rebuttal Evidence and Argument Due from All PORs December 12, 2011.

ADDRESSES: Filings may be submitted either via the Board's e-filing format or in the traditional paper format. Any person using e-filing should attach a document and otherwise comply with the instructions at the E-FILING link on the Board's website, at http://www.stb.dot.gov. Any person submitting a filing in the traditional paper format should send an original and 10 copies to: Surface Transportation Board, Attn: Docket No. FD 35506, 395 E Street, SW., Washington, DC 20423-0001.

Copies of written comments will be available for viewing and self-copying at the Board's Public Docket Room, Room 131, and will be posted to the Board's website.

FOR FURTHER INFORMATION CONTACT: Valerie Quinn at 202-245-0382. Assistance for the hearing impaired is available through the Federal Information Relay Service (FIRS) at 1-800-877-8339.

SUPPLEMENTARY INFORMATION: Additional information is contained in the Board's decision, which is available on our Web site at http://www.stb.dot.gov. Copies of the decision may be purchased by contacting the Board's Office of Public Assistance, Governmental Affairs, and Compliance at (202) 245-0238. Assistance for the hearing impaired is available through FIRS at (800) 877-8339.

This action will not significantly affect either the quality of the human environment or the conservation of energy resources.

Decided: September 26, 2011.
By the Board, Chairman Elliott, Vice Chairman Begeman, and Commissioner Mulvey.
Andrea Pope-Matheson,
Clearance Clerk.

[FR Doc. 2011-25285 Filed 9-29-11; 8:45 am]

BILLING CODE 4915-01-P